ENVIRONMENTAL PROTECTION AGENCY

[EPA-HQ-OPP-2006-0176; FRL-7767-4]

Issuance of Experimental Use Permits

AGENCY: Environmental Protection Agency (EPA).

ACTION: Notice.

SUMMARY: EPA has granted experimental use permits (EUPs) to the following pesticide applicant. EUPs permit use of a pesticide for experimental or research purposes only in accordance with the limitations in the permits.

FOR FURTHER INFORMATION CONTACT: Phil Hutton, Biopesticides and Pollution Prevention Division (7511C), Office of Pesticide Programs, Environmental Protection Agency, 1200 Pennsylvania Ave., NW., Washington, DC 20460-0001; telephone number: (703) 308-8260; e-mail address: hutton.phil@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2006-0176. Publicly available docket materials are available either electronically at http://www.regulations.gov or in hard copy at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr.

II. EUPs

EPA has issued the following EUPs:

82681-EUP-1. Issuance. Agricultural Research Initiatives (ARI) Incorporated, 700 Research Center Blvd., Fayetteville, AR 72701. This EUP allows the use of 414 pounds of the herbicide active ingredient Colletotrichum gloeosporioides f.sp. aeschynomene on 5,000 acres of rice to evaluate the control of northern joint vetch. The active ingredient consists of viable microbial spores and fermentation medium and comprises 45% by weight of the end product, LockDown. The program is authorized only in the States of Arkansas, Louisiana, and Mississippi. The EUP is effective from February 1, 2006 to February 1, 2007.

82681-EUP-2 and 82681-EUP-3. Issuances. Agricultural Research Initiatives (ARI) Incorporated, 700 Research Center Blvd., Fayetteville, AR 72701. Each EUP allows the use of 414 pounds of the herbicide active ingredient Colletotrichum gloeosporioides f.sp. aeschynomene on 5,000 acres of rice to evaluate the control of northern joint vetch. For each of these EUPs, the active ingredient consists of viable microbial spores and fermentation medium and comprises 40% by weight of each end product, LockDown EF for 82681-EUP-2 and LockDown Plus for 82681-EUP-3. The program is authorized only in the States of Arkansas, Louisiana, and Mississippi. The EUPs are effective from February 27, 2006 to February 27, 2007.

Authority: 7 U.S.C. 136c.

List of Subjects

Environmental protection, Experimental use permits.

Dated: March 13, 2006.
Janet L. Andersen,
Director, Biopesticides and Pollution Prevention Division, Office of Pesticide Programs.

[FR Doc. 06-2709 Filed 3-21-06; 8:45 am]

BILLING CODE 6560-50-S